DEPARTMENT OF HOMELAND SECURITY

Coast Guard

33 CFR Part 117

[Docket Number USCG-2015-0837]

Drawbridge Operation Regulation; Illinois Waterway, Beardstown, IL

AGENCY: Coast Guard, DHS.

ACTION: Notice of deviation from drawbridge regulation.

SUMMARY: The Coast Guard has issued a temporary deviation from the operating schedule that governs the Burlington Northern Santa Fe Railroad Bridge across the Illinois Waterway, mile 88.8, at Beardstown, Illinois. The deviation is necessary to allow signal upgrades to be installed which can only be done when the bridge is in the closed-to-navigation position. The deviation allows the bridge to be in the closed-to-navigation position for 4 hours.

DATES: This deviation is effective from noon to 4 p.m., September 24, 2015.

ADDRESSES: The docket for this deviation, [USCG-2015-0837] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Eric A. Washburn, Bridge Administrator, Western Rivers, Coast Guard; telephone (314) 269-2378, email Eric.Washburn@uscg.mil. If you have questions on viewing the docket, call Cheryl F. Collins, Program Manager, Docket Operations, telephone (202) 366-9826.

SUPPLEMENTARY INFORMATION: The Burlington Northern Santa Fe Railway Company requested a temporary deviation for the Burlington Northern Santa Fe (BNSF) Railroad Bridge, mile 88.8, at Beardstown, Illinois across the Illinois Waterway. It has a vertical clearance of 19.6 feet above normal pool in the closed position. The BNSF Railroad Bridge currently operates in accordance with 33 CFR 117.393(a) which requires that the bridge be maintained in the open-to-navigation position; closing only when a train needs to transit the bridge.

The deviation period is from noon to 4 p.m., September 24, 2015, when the draw span will remain in the closed-to-navigation position. During this time signal upgrades will be installed. The draw span will not be returned to its fully open position until the upgrades are completed. Vessels will not be allowed to pass while the signal upgrade is in progress. The bridge can open in case of emergency.

Navigation at the site of the bridge consists mainly of commercial vessels. Based on known waterway users, as well as coordination with those waterway users, it has been determined that this closure will not have a significant effect on these vessels. No alternate routes are available.

The Coast Guard will also inform the users of the waterway through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: August 31, 2015.
David M. Frank,
Bridge Administrator, Eighth Coast Guard District.

[FR Doc. 2015-21964 Filed 9-3-15; 8:45 am]

BILLING CODE 9110-04-P